DEPARTMENT OF AGRICULTURE

Foreign Agricultural Service

Trade Adjustment Assistance for Farmers

AGENCY: Foreign Agricultural Service, USDA.

ACTION: Notice.

The Administrator, Foreign Agricultural Service (FAS), today accepted a petition filed by a group of shrimp producers in Arizona. The Administrator will determine within 40 days whether or not imports of shrimp contributed importantly to a decline in domestic producer prices by more than 20 percent during the marketing year beginning January 2002 and ending December 2003. If the determination is positive, all Arizona shrimp producers will be eligible to apply to the Farm Service Agency for technical assistance at no cost and adjustment assistance payments.

FOR FURTHER INFORMATION CONTACT: Jean-Louis Pajot, Coordinator, Trade Adjustment Assistance for Farmers, FAS, USDA, (202) 720-2916, e-mail: trade.adjustment@fas.usda.gov.

Dated: January 29, 2004.
A. Ellen Terpstra,
Administrator, Foreign Agricultural Service.

[FR Doc. 04-3235 Filed 2-12-04; 8:45 am]

BILLING CODE 3410-10-P